OFFICE OF PERSONNEL MANAGEMENT

Submission for OMB Review; Request for Extension, Without Change, of A Currently Approved Collection: (OMB Control No. 3206-0211; Reemployment of Annuitants, 5 CFR 837.103)

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for extension, without change, of a currently approved information collection. “Reemployment of Annuitants” (OMB Control No. 3206-0211; 5 Section 837.103), requires agencies to collect information from retirees who become employed in Government positions. Agencies need to collect timely information regarding the type and amount of annuity being received so the correct rate of pay can be determined. Agencies provide this information to OPM so a determination can be made whether the reemployed retiree's annuity must be terminated.

Approximately 3,000 reemployed retirees are asked this information annually. It takes each reemployed retiree approximately 5 minutes to provide the information for an annual estimated burden of 250 hours.

For copies of this proposal, contact Cyrus S. Benson on (202) 606-4808, FAX (202) 606-0910 or via E-mail to Cyrus.Benson@opm.gov. Please include a mailing address with your request.

DATES: Comments on this proposal should be received within 30 calendar days from the date of this publication.

ADDRESSES: Send or deliver comments to—

James K. Freiert (Acting), Deputy Associate Director, Retirement Operations, Retirement and Benefits, U.S. Office of Personnel Management, 1900 E Street, NW., Room 3305, Washington, DC 20415-3500 and OPM Desk Officer, Office of Information & Regulatory Affairs, Office of Management and Budget, New Executive Office Building, 725 17th Street, NW., Room 10235, Washington, DC 20503.

For information regarding administrative coordination contact: Cyrus S. Benson, Team Leader, Publications Team, RB/RM/Administrative Services/PT, U.S. Office of Personnel Management, 1900 E Street, NW.—Room 4H28, Washington, DC 20415 (202) 606-4808.

U.S. Office of Personnel Management.
John Berry,
Director.

[FR Doc. 2010-9517 Filed 4-22-10; 8:45 am]

BILLING CODE 6325-38-P